DEPARTMENT OF DEFENSE

Department of the Army

Army Science Board Fall Plenary Meeting

AGENCY: Department of the Army, DoD.

ACTION: Meeting notice; cancellation.

SUMMARY: The notice of an open meeting scheduled for October 16, 2013 published in the Federal Register on October 2, 2013 (78 FR 60864) has been cancelled due to the Government Furlough and will be rescheduled at a later date. Due to the lapse of appropriations, the Department of Defense cancelled the meeting of the U.S. Army Science Board on October 16, 2013. As a result, the Department of Defense was unable to provide appropriate notification as required by 41 CFR 102-3.150(a). Therefore, the Advisory Committee Management Officer for the Department of Defense, pursuant to 41 CFR 102-3.150(b), waives the 15-calendar day notification requirement.

FOR FURTHER INFORMATION CONTACT: The Committee's Designated Federal Officer COL William McLagan, (703) 545-8652, william.m.mclagan.mil@mail.mil or Carolyn German, (703) 545-8654, carolyn.t.german.civ@mail.mil .

SUPPLEMENTARY INFORMATION: None.

Brenda S. Bowen,
Army Federal Register Liaison Officer.

[FR Doc. 2013-25404 Filed 10-25-13; 8:45 am]

BILLING CODE 3710-08-P